DEPARTMENT OF HEALTH AND HUMAN SERVICES

Administration for Community Living

Delegation of Authority

Notice is hereby given that I have delegated to the Administrator of the Administration for Community Living, or his or her successor, the following authorities vested in the Secretary:

• The authorities vested under 42 U.S.C. 300d-52 and 300d-53, as amended by Sections 3 and 4 of the Traumatic Brain Injury Reauthorization Act of 2014 (P.L. 113-196), titled “State Grants for Projects Regarding Traumatic Brain Injury” and “State Grants for Protection and Advocacy Services.”

(Prior to the passage of the Traumatic Brain Injury Reauthorization Act of 2014, exercise of these authorities was vested by statute with the Administrator, Health Resources and Services Administration.)

These authorities may be redelegated.

This delegation excludes the authority to issue regulations, to establish advisory committees and councils, and appoint their members, and to submit reports to Congress, and shall be exercised in accordance with the Department's applicable policies, procedures, and guidelines.

This delegation will concurrently supersede all existing delegations of these authorities.

I hereby affirm and ratify any actions taken by agency officials which involved the exercise of the authorities delegated herein prior to the effective date of this delegation.

This delegation is effective October 1, 2015.

Dated: August 31, 2015.
Sylvia M. Burwell,
Secretary.

[FR Doc. 2015-23122 Filed 9-11-15; 8:45 am]

BILLING CODE 4154-01-P